AGENCY FOR INTERNATIONAL DEVELOPMENT

Board for International Food and Agricultural Development One Hundred and Fiftieth Meeting; Notice of Meeting

Pursuant to the Federal Advisory Committee Act, notice is hereby given of the one hundred and fiftieth meeting of the Board for International Food and Agricultural Development (BIFAD). The meeting will be held from 8:30 a.m. to 3:45 p.m. on February 27, 2007 at the National Association of State Universities and Land Grant Colleges (NASULGC) located at 1307 New York Avenue NW., Washington, DC. The meeting is being held in NASULGC's main conference room located on the ground floor.

The morning session will be opened by Mr. Peter McPherson, Chairman of the BIFAD. The first presentation to the Board will cover Transformational Development and Budget Implications for U.S. Universities. This will be followed by a presentation on Increasing the Role of Universities in African Development—New Perspectives. At mid-morning the Board will then host an open discussion to explore the strategic direction of BIFAD for 2007. At noon Mr. James R. Kunder, Acting Deputy Administrator of the U.S. Agency for International Development (USAID), will join the Board for an executive luncheon. Following the luncheon Mr. Kunder will swear-in new BIFAD members. Title XII implementation will be the focus of the afternoon business sessions. Included will be presentations and discussion on USAID's horticultural development initiative, management of the Collaborative Research Support Programs (CRSPS), and the Strategic Partnership for Agricultural Research & Education (SPARE).

The meeting is free and open to the public; with the exception of the executive luncheon which is closed. Those wishing to attend the meeting or obtain additional information about BIFAD should contact Ronald S. Senykoff, the Designated Federal Officer for BIFAD. Write him in care of the U.S. Agency for International Development, Ronald Reagan Building, Office of Agriculture, Bureau for Economic Growth, Agriculture and Trade, 1300 Pennsylvania Avenue, NW., Room 2.11-085, Washington DC, 20523-2110 or telephone him at (202) 712-0218 or fax (202) 216-3010.

Ronald S. Senykoff,
USAID Designated Federal Officer for BIFAD, Office of Agriculture, Bureau for Economic Growth, Agriculture & Trade, U.S. Agency for International Development.

[FR Doc. E7-2900 Filed 2-21-07; 8:45 am]

BILLING CODE 6116-01-P